FEDERAL ACCOUNTING STANDARDS ADVISORY BOARD

Notice of New Exposure Draft Accounting for Federal Oil and Gas Resources

AGENCY: Federal Accounting Standard Advisory Board.

ACTION: Notice of new exposure draft Accounting for Federal Oil and Gas Resources.

Board Action: Pursuant to 31 U.S.C. 3511(d), the Federal Advisory Committee Act (Pub. L. 92-463), as amended, and the FASAB Rules Of Procedure, as amended in April 2004, notice is hereby given that the Federal Accounting Standards Advisory Board (FASAB) has issued an exposure draft, Accounting for Federal Oil and Gas Resources.

The Exposure Draft proposes standards that would result in recognition of the estimated value of royalties from Federal oil and gas leases and changes in those values over time as well as the amount of royalties designated for distribution to other entities such as State governments.

The Exposure Draft is available on the FASAB home page http://www.fasab.gov/exposure.html. Copies can be obtained by contacting FASAB at (202) 512-7350. Respondents are encouraged to comment on any part of the exposure draft. Written comments are requested by September 21, 2007, and should be sent to: Wendy M. Comes, Executive Director, Federal Accounting Standards Advisory Board, 441 G Street, NW., Suite 6814, Mail Stop 6K17V, Washington, DC 20548.

FOR FURTHER INFORMATION CONTACT: Wendy Comes, Executive Director, 441 G Street, NW., Washington, DC 20548, or call (202) 512-7350.

Authority: Federal Advisory Committee Act, Pub. L. No. 92-463.

Dated: May 22, 2007.
Charles Jackson,
Federal Register Liaison Officer.

[FR Doc. 07-2606 Filed 5-24-07; 8:45 am]

BILLING CODE 1610-01-M